DEPARTMENT OF THE INTERIOR

[UT080-1310-00]

Notice of Availability of the Draft Environmental Impact Statement on the Resource Development Group Uinta Basin Natural Gas Project, Uintah County, UT

AGENCY: Bureau of Land Management, Interior.

ACTION: Notice of availability.

SUMMARY: In accordance with section 202 of the National Environmental Policy Act of 1969, the Bureau of Land Management (BLM) announces the availability of the Draft Environmental Impact Statement (DEIS) for the proposed Resource Development Group Uinta Basin Natural Gas Project. The DEIS analyzes and discloses to the public direct, indirect, and cumulative environmental impacts of a proposed natural gas development on 79,800 acres in the Atchees Wash oil and gas production region. The proponent proposes to drill up to 423 gas production wells, accessed by approximately 126 miles of new roads. Three additional alternatives to the proposed action are also analyzed.

DATES: Written comments on the Resource Development Group Uinta Basin Natural Gas Project DEIS will be accepted for 45 days following the date the Environmental Protection Agency (EPA) publishes this Notice of Availability in the Federal Register. Future public meetings and any other public involvement activities will be announced at least 15 days in advance through public notices, media news releases, the BLM Vernal Field Office Web site at http://www.blm.gov/utah/vernal and/or mailings.

The BLM asks that those submitting comments on the DEIS make them as specific as possible with references to page numbers and chapters of the document. Comments that contain only opinions or preferences will not receive a formal response, but will be considered and included as part of the BLM decision-making process.

ADDRESSES: Please address questions, comments or concerns to the Vernal Field Office, Bureau of Land Management, Attn: Jean Nitschke-Sinclear 170 South, 500 East, Vernal, UT 84078, fax them to 435-781-4410, or send e-mail comments to the attention of Jean Nitschke-Sinclear at jean_nitschke-sinclear@blm.gov. A copy of the DEIS has been sent to affected Federal, State, and local government agencies; and persons and entities who indicated to the BLM that they wished to receive a copy of the DEIS.

Copies of the Resource Development Group Uinta Basin Natural Gas Project DEIS are available at the BLM Vernal Field Office at the address above. The DEIS may also be viewed and downloaded in PDF format at the BLM Vernal Field Office Web site at http://www.blm.gov/utah/vernal.

FOR FURTHER INFORMATION CONTACT: Jean Nitschke-Sinclear at BLM's Vernal Field Office listed above or telephone (435-781-4400).

SUPPLEMENTARY INFORMATION: Written comments, including names and addresses of respondents, will be available for public review at the BLM Vernal Field Office during normal business hours (7:45 a.m. to 4:30 p.m.). Responses to the comments will be published as part of the Final Environmental Impact Statement (FEIS). Individuals may request confidentiality. If you wish to withhold your name or address from public review or from disclosure under the Freedom of Information Act, you must state this prominently at the beginning of your comment. Such requests will be honored to the extent allowed by law. All submissions from organizations or businesses will be made available for public inspection in their entirety.

The DEIS analyzes proposed natural gas development in 79,800 acres in the Atchees Wash oil and gas production region, approximately 50 miles south of Vernal in Townships 11 and 12 South; Ranges 23 and 24 E., SLBM. The proposed project is located primarily on BLM-administered lands (69,560 acres) and includes 9,080 acres of State administered lands and 1,160 acres of private lands. Sixty-four wells and 139 miles of roads exist within the project area. The proponent anticipates drilling up to 423 additional wells at a rate of 14 to 40 a year, accessed by approximately 126 miles of new roads. The wells would be drilled on a spacing pattern based on geology and reservoir qualities. Some areas could be developed on a 40-acre pattern while others could be drilled on patterns of 160 acres or larger. The Wasatch Formation (average depth of 2,000-4,000 feet) and Mesa Verde Formation (average depth of 4,000-6,000 feet) are the primary producing horizons in this region. Unpainted steel gas gathering lines would be laid on the surface and integrated into the existing gas pipeline gathering and transmission network. One new compressor station is anticipated.

The Notice of Intent for preparation of the Draft Environmental Impact Statement on the Resource Development Group Uinta Basin Natural Gas Project was published in the Federal Register on October 22, 1999. Public participation was sought through scoping, public meetings and stakeholder meetings conducted with interested agencies and organizations. Specifically, BLM conducted a public scoping and informational open house in Vernal, Utah on November 18, 1999; and stakeholders meetings on February 14-17, 2000. Through the scoping process several issues were identified and are addressed in the DEIS. The BLM has developed three alternatives in addition to the proposed action for analysis in the DEIS. The alternatives range from continuation of current management (No Action) to different combinations of environmental protection and development.

Dated: June 6, 2003.
Sally Wisely,
State Director.

[FR Doc. 03-19691 Filed 8-7-03; 8:45 am]

BILLING CODE 4310-$$-P